DEPARTMENT OF ENERGY

Federal Energy Regulatory Commission

Combined Notice of Filings #2

Take notice that the Commission received the following electric corporate filings:

Docket Numbers: EC19-40-000.

Applicants: sPower OpCo A, LLC.

Description: Application for Authorization Under Section 203 of the Federal Power Act, et al. of sPower OpCo A, LLC.

Filed Date: 12/21/18.

Accession Number: 20181221-5121.

Comments Due: 5 p.m. ET 1/11/19.

Docket Numbers: EC19-41-000.

Applicants: Rocky Mountain Power, LLC.

Description: Application for Authorization for Disposition of Jurisdictional Facilities and Requests for Confidential Treatment and Expedited Action of Rocky Mountain Power, LLC.

Filed Date: 12/21/18.

Accession Number: 20181221-5199.

Comments Due: 5 p.m. ET 1/11/19.

Take notice that the Commission received the following exempt wholesale generator filings:

Docket Numbers: EG19-36-000.

Applicants: Ranchero Wind Farm, LLC.

Description: Notice of Self-Certification of Exempt Wholesale Generator Status of Ranchero Wind Farm, LLC.

Filed Date: 12/21/18.

Accession Number: 20181221-5168.

Comments Due: 5 p.m. ET 1/11/19.

Docket Numbers: EG19-37-000.

Applicants: Viridity Energy Solutions Inc.

Description: Notice of Self-Certification of Exempt Wholesale Generator of Viridity Energy Solutions Inc.

Filed Date: 12/21/18.

Accession Number: 20181221-5259.

Comments Due: 5 p.m. ET 1/11/19.

Take notice that the Commission received the following electric rate filings:

Docket Numbers: ER19-651-000.

Applicants: Midcontinent Independent System Operator, Inc.

Description: § 205(d) Rate Filing: 2018-12-21_Resource Availability and Need LMR Testing Filing to be effective 3/31/2019.

Filed Date: 12/21/18.

Accession Number: 20181221-5011.

Comments Due: 5 p.m. ET 1/11/19.

Docket Numbers: ER19-652-000.

Applicants: Midcontinent Independent System Operator, Inc., Entergy Services, LLC.

Description: § 205(d) Rate Filing: 2018-12-21 Entergy Mississippi and Entergy Arkansas Name Change Filing to be effective 12/1/2018.

Filed Date: 12/21/18.

Accession Number: 20181221-5043.

Comments Due: 5 p.m. ET 1/11/19.

Docket Numbers: ER19-653-000.

Applicants: Mid-Atlantic Interstate Transmission, LLC, PJM Interconnection, L.L.C.

Description: § 205(d) Rate Filing: MAIT submits one ECSA, Service Agreement No. 5198 to be effective 2/19/2019.

Filed Date: 12/21/18.

Accession Number: 20181221-5115.

Comments Due: 5 p.m. ET 1/11/19.

Docket Numbers: ER19-654-000.

Applicants: Cheyenne Light, Fuel and Power Company.

Description: eTariff filing per 1450: Response to Order to Show Cause under EL18-79 to be effective 3/21/2018.

Filed Date: 12/21/18.

Accession Number: 20181221-5123.

Comments Due: 5 p.m. ET 1/11/19.

Docket Numbers: ER19-655-000.

Applicants: Louisville Gas & Electric Company, Kentucky Utilities Company.

Description: Notice of Cancellation of Network Operating Agreement (No. 5) of Louisville Gas and Electric Company, et al.

Filed Date: 12/21/18.

Accession Number: 20181221-5124.

Comments Due: 5 p.m. ET 1/11/19.

Docket Numbers: ER19-656-000.

Applicants: Southern California Edison Company.

Description: § 205(d) Rate Filing: Amendment to 1st Amended CLGIA and DSA Windhub Solar A Project SA Nos. 686 & 687 to be effective 12/8/2018.

Filed Date: 12/21/18.

Accession Number: 20181221-5155.

Comments Due: 5 p.m. ET 1/11/19.

Docket Numbers: ER19-657-000.

Applicants: Southern California Edison Company.

Description: § 205(d) Rate Filing: Amended CLGIA and DSA Portal Ridge Solar Project SA Nos. 622 & 623 to be effective 12/8/2018.

Filed Date: 12/21/18.

Accession Number: 20181221-5161.

Comments Due: 5 p.m. ET 1/11/19.

Docket Numbers: ER19-658-000.

Applicants: Duke Energy Carolinas, LLC.

Description: § 205(d) Rate Filing: DEC-Greenwood PWC (SA No. 286) Amendment to be effective 9/1/2016.

Filed Date: 12/21/18.

Accession Number: 20181221-5192.

Comments Due: 5 p.m. ET 1/11/19.

Docket Numbers: ER19-659-000.

Applicants: New York State Reliability Council, L.L.C.

Description: Informational Filing of the Revised Installed Capacity Requirement for the New York Control Area by the New York State Reliability Council, L.L.C.

Filed Date: 12/21/18.

Accession Number: 20181221-5203.

Comments Due: 5 p.m. ET 1/11/19.

Docket Numbers: ER19-660-000.

Applicants: Puget Sound Energy, Inc.

Description: § 205(d) Rate Filing: Boeing NOA, NITSA, IA Filing to be effective 1/1/2019.

Filed Date: 12/21/18.

Accession Number: 20181221-5219.

Comments Due: 5 p.m. ET 1/11/19.

Docket Numbers: ER19-661-000.

Applicants: Puget Sound Energy, Inc.

Description: § 205(d) Rate Filing: Center Drive NITSA, NOA, and IA to be effective 12/1/2018.

Filed Date: 12/21/18.

Accession Number: 20181221-5220.

Comments Due: 5 p.m. ET 1/11/19.

Docket Numbers: ER19-662-000.

Applicants: Puget Sound Energy, Inc.

Description: Tariff Cancellation: Cancellation of DBINTC Agreement to be effective 11/30/2018.

Filed Date: 12/21/18.

Accession Number: 20181221-5221.

Comments Due: 5 p.m. ET 1/11/19.

Docket Numbers: ER19-663-000.

Applicants: Duke Energy Carolinas, LLC.

Description: § 205(d) Rate Filing: DEC-SEPA NITSA (SA No. 127) Amendment to be effective 1/1/2019.

Filed Date: 12/21/18.

Accession Number: 20181221-5258.

Comments Due: 5 p.m. ET 1/11/19.

Docket Numbers: ER19-664-000.

Applicants: PJM Interconnection, L.L.C.

Description: § 205(d) Rate Filing: Revisions to the OATT and OA re: Gas Pipeline Contingencies to be effective 12/22/2018.

Filed Date: 12/21/18.

Accession Number: 20181221-5268.

Comments Due: 5 p.m. ET 1/11/19.

Docket Numbers: ER19-665-000.

Applicants: FirstLight CT Housatonic LLC.

Description: Baseline eTariff Filing: MBR Application to be effective 2/20/2019.

Filed Date: 12/21/18.

Accession Number: 20181221-5269.

Comments Due: 5 p.m. ET 1/11/19.

Docket Numbers: ER19-666-000.

Applicants: FirstLight CT Hydro LLC.

Description: Baseline eTariff Filing: MBR Application to be effective 2/20/2019.

Filed Date: 12/21/18.

Accession Number: 20181221-5271.

Comments Due: 5 p.m. ET 1/11/19.

Docket Numbers: ER19-667-000.

Applicants: FirstLight MA Hydro LLC.

Description: Baseline eTariff Filing: MBR Application to be effective 2/20/2019.

Filed Date: 12/21/18.

Accession Number: 20181221-5272.

Comments Due: 5 p.m. ET 1/11/19.

Docket Numbers: ER19-668-000.

Applicants: Energy Center Dover LLC.

Description: § 205(d) Rate Filing: Notice of Succession to be effective 12/22/2018.

Filed Date: 12/21/18.

Accession Number: 20181221-5273.

Comments Due: 5 p.m. ET 1/11/19.

Docket Numbers: ER19-669-000.

Applicants: Northfield Mountain LLC.

Description: Baseline eTariff Filing: MBR Application to be effective 2/20/2019.

Filed Date: 12/21/18.

Accession Number: 20181221-5274.

Comments Due: 5 p.m. ET 1/11/19.

Docket Numbers: ER19-670-000.

Applicants: Energy Center Dover LLC.

Description: § 205(d) Rate Filing: Notice of Succession, Revisions to Market-Based Rate Tariff, Request for Waivers to be effective 12/22/2018.

Filed Date: 12/21/18.

Accession Number: 20181221-5275.

Comments Due: 5 p.m. ET 1/11/19.

Docket Numbers: ER19-671-000.

Applicants: Energy Center Paxton LLC.

Description: § 205(d) Rate Filing: Notice of Succession, Revisions to Market-Based Rate Tariff, Request for Waivers to be effective 12/22/2018.

Filed Date: 12/21/18.

Accession Number: 20181221-5276.

Comments Due: 5 p.m. ET 1/11/19.

Docket Numbers: ER19-672-000.

Applicants: Marsh Landing LLC.

Description: § 205(d) Rate Filing: Notice of Succession, Revisions to Market-Based Rate Tariff, Request for Waivers to be effective 12/22/2018.

Filed Date: 12/21/18.

Accession Number: 20181221-5277.

Comments Due: 5 p.m. ET 1/11/19.

Docket Numbers: ER19-673-000.

Applicants: Solar Blythe LLC.

Description: § 205(d) Rate Filing: Notice of Succession, Revisions to Market-Based Rate Tariff, Requests for Waiver to be effective 12/22/2018.

Filed Date: 12/21/18.

Accession Number: 20181221-5278.

Comments Due: 5 p.m. ET 1/11/19.

Docket Numbers: ER19-674-000.

Applicants: Solar Roadrunner LLC.

Description: § 205(d) Rate Filing: Notice of Succession, Revisions to Market-Based Rate Tariff, Requests for Waiver to be effective 12/22/2018.

Filed Date: 12/21/18.

Accession Number: 20181221-5279.

Comments Due: 5 p.m. ET 1/11/19.

Docket Numbers: ER19-675-000.

Applicants: Public Service Company of Colorado.

Description: § 205(d) Rate Filing: OATT Attachment O-SPS Depreciation Filing to be effective 3/1/2019.

Filed Date: 12/21/18.

Accession Number: 20181221-5281.

Comments Due: 5 p.m. ET 1/11/19.

Take notice that the Commission received the following qualifying facility filings:

Docket Numbers: QF18-452-000.

Applicants: North American Natural Resources, Inc.

Description: Refund Report of North American Natural Resources, Inc.

Filed Date: 12/21/18.

Accession Number: 20181221-5282.

Comments Due: 5 p.m. ET 01/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2018.
Nathaniel J. Davis, Sr.,
Deputy Secretary.

[FR Doc. 2018-28413 Filed 12-28-18; 8:45 am]

BILLING CODE 6717-01-P